DEPARTMENT OF TRANSPORTATION

Office of the Secretary

Notice of Applications for Certificates of Public Convenience and Necessity and Foreign Air Carrier Permits Filed Under Subpart B (Formerly Subpart Q)

Notice of Applications for Certificates of Public Convenience and Necessity and Foreign Air Carrier Permits Filed Under Subpart B (formerly Subpart Q) during the Week Ending May 30, 2009. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0129.

Date Filed: May 27, 2009.

Due Date for Answers, Conforming Applications, or Motion to Modify Scope: June 17, 2009.

Description: Application of SmartLynx Airlines, Ltd. requesting a foreign air carrier permit authorizing the carrier to operate charter foreign air transportation of persons, property and mail (a) between any point or points behind the European Union, via any point or points in the European Union and intermediate points, to any point or points in the United States, and beyond; (b) between any point or points in the European Common Aviation Area and any point or points in the United States; and (c) pursuant to the prior approval requirements of Part 212.

Docket Number: DOT-OST-2009-0132.

Date Filed: May 28, 2009.

Due Date for Answers, Conforming Applications, or Motion to Modify Scope: June 18, 2009.

Description: Application of Lufthansa Cargo AG requesting a foreign air carrier permit authorizing it to engage in: (a) Scheduled and charter foreign air transportation of property and mail from any point or points behind any Member State of the European Union via any point or points in any Member State and via intermediate points to any point or points in the United States and beyond; (b) scheduled and charter foreign air transportation of property and mail between any point or points in the United States and any point or points in any member of the European Common Aviation Area; (c) scheduled and charter foreign air transportation of property and mail between any point or points in the United States and any point or points; (d) other charter pursuant to the prior approval requirements; and (e) transportation authorized by any additional route rights made available to European Community carriers in the future.

Docket Number: DOT-OST-2008-0026.

Date Filed: May 27, 2009.

Due Date for Answers, Conforming Applications, or Motion to Modify Scope: June 17, 2009.

Description: Application of Air Italy S.p.A. requesting an amendment of the first two paragraphs of its foreign air carrier permit it now holds to authorize: (a) Scheduled and charter foreign air transportation of persons, property and mail from any point or points behind any Member State of the European Community via any point or points in any Member State and via intermediate points to any point or points in the United States and beyond; and (b) scheduled and charter foreign air transportation of persons, property and mail between any point or points in the United States and any point or points in the European Common Aviation Area. Air Italy also seeks an exemption to permit its operations as a scheduled foreign air carrier within the full geographic scope of the permit amendment.

Renee V. Wright,
Program Manager, Docket Operations, Federal Register Liaison.

[FR Doc. E9-13710 Filed 6-10-09; 8:45 am]

BILLING CODE 4910-9X-P